DEPARTMENT OF COMMERCE

National Oceanic and Atmospheric Administration

[I.D. 110904B]

Magnuson-Stevens Act Provisions; General Provisions for Domestic Fisheries; Application for Exempted Fishing Permits

AGENCY: National Marine Fisheries Service (NMFS), National Oceanic and Atmospheric Administration (NOAA), Commerce.

ACTION: Notification of a proposal for permits to conduct experimental fishing; request for comments.

SUMMARY: The Assistant Regional Administrator for Sustainable Fisheries, Northeast Region, NMFS (Assistant Regional Administrator) has made a preliminary determination that the subject Exempted Fishing Permit (EFP) application contains all the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to recommend that an EFP be issued that would allow one commercial fishing vessel to conduct fishing operations that are otherwise restricted by the regulations governing the fisheries of the Northeastern United States. The EFP would allow for exemptions from the FMP as follows: The Gulf of Maine (GOM) Rolling Closure Areas, the NE multispecies days-at-sea (DAS) effort control program, the NE multispecies DAS notification requirement, and the minimum mesh size for trawl gear. Regulations under the Magnuson-Stevens Fishery Conservation and Management Act require publication of this notification to provide interested parties the opportunity to comment on applications for proposed EFPs.

DATES: Comments must be received on or before December 2, 2004.

ADDRESSES: Written comments should be sent to Patricia A. Kurkul, Regional Administrator, NMFS, Northeast Regional Office, 1 Blackburn Drive, Gloucester, MA 01930. Mark the outside of the envelope “Comments on the GOM High Opening Raised Footrope Trawl for Haddock and Pollock.” Comments may also be sent via fax to (978) 281-9135, or be submitted via e-mail to the following address: da702@noaa.gov.

FOR FURTHER INFORMATION CONTACT: Karen Tasker, Fishery Management Specialist, phone 978-281-9273.

SUPPLEMENTARY INFORMATION: An application for an EFP was submitted on October 12, 2004, by Dr. Pingguo He of the University of New Hampshire (UNH) for a Northeast Consortium contract project. The primary goal of the research is to design and test a high opening haddock raised footrope trawl for potential use in B DAS programs in the GOM.

The project, which is anticipated to be two years in duration, would include flume tank trials and 10 days of at-sea trials, per year. At-sea trials would consist of three to four 1-hour tows per sea day. Additionally, researchers would use remote underwater video observation and acoustic gear geometry monitoring to assess the success of the net during at-sea trials. The experimental net would consist of long drop-chains hanging between the fishing line and the sweep (raised footrope), creating a space for cod, flounders, and other benthic animals to escape or fall under the fishing line. The trawl would incorporate large meshes in the wings and belly, and kites in the square near the headline. Kites may also be used near the wingends to expand the trawl. Researchers have requested a small mesh exemption to allow for the use of a second codend or a small mesh cover to collect fish released from the trawl to assess the effectiveness of the separator trawl.

All specimens caught would be sampled and measured. All undersized fish will be returned to the sea as quickly as practical after measurement and examination. The overall fishing mortality is estimated to be 30 percent of the average commercial fishing mortality on a DAS. The researcher anticipates that a total of 5,217 lb (2,366.4 kg) of fish, including 1,300 lb (589.7 kg) of cod, would be harvested throughout the course of the study. Other species that are anticipated to be caught are haddock, dab, yellowtail flounder, winter flounder, grey sole, white hake, and pollock. All legal-sized fish, within the possession limit, would be sold, with the proceeds returned to the project for the purpose of enhancing future research.

Year one of the study would take place from May 1, 2005, to April 30, 2006. All at-sea research during year one would be conducted from one fishing vessel. During the second year of the project, two vessels would conduct at-sea research. The trials would occur in the area north of 43°00′ N. lat. and west of 69°00′ W. long., especially in the inshore GOM, excluding the Western GOM Closure Area. Researchers have asked for an exemption to the regulations establishing the Western GOM Rolling Closure Areas because they believe that an optimal mixture of haddock and cod for testing this gear is present in the Western GOM waters during May and June. Because the aim of the project is to develop gear that could separate haddock and cod before the fish are brought onboard, an exemption from the Western GOM Rolling Closure Areas is important to the success of the study. Exemption from 10 DAS is also requested to conduct the experiment because a commercial DAS level of effort would not likely be realized due to the additional time that would be necessary to weigh, measure, and sort the catch, and to adjust underwater video and acoustic monitoring systems.

Authority: 16 U.S.C. 1801 et seq.

Dated: November 10, 2004.
Alan D. Risenhoover,
Acting Director, Office of Sustainable Fisheries, National Marine Fisheries Service.

[FR Doc. E4-3191 Filed 11-16-04; 8:45 am]

BILLING CODE 3510-08-S